INTERNATIONAL TRADE COMMISSION

[Inv. No. 337-TA-602]

In the Matter of Certain GPS Devices and Products Containing Same; Enforcement Proceeding; Notice of Institution of Formal Enforcement Proceeding; Denial of Motion for Sanctions

AGENCY: U.S. International Trade Commission.

ACTION: Notice.

SUMMARY: Notice is hereby given that the U.S. International Trade Commission has instituted a formal enforcement proceeding relating to the limited exclusion order and cease-and-desist orders issued at the conclusion of the above-captioned investigation. The Commission has also denied a motion for sanctions.

FOR FURTHER INFORMATION CONTACT: Daniel E. Valencia, Office of the General Counsel, U.S. International Trade Commission, 500 E Street, SW., Washington, DC 20436, telephone (202) 205-1999. Copies of all nonconfidential documents filed in connection with this investigation are or will be available for inspection during official business hours (8:45 a.m. to 5:15 p.m.) in the Office of the Secretary, U.S. International Trade Commission, 500 E Street SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The underlying investigation was instituted on May 7, 2007, based on a complaint filed by Global Locate, Inc., a subsidiary of Broadcom Corporation (collectively, “Broadcom”). 72 FR 25777 (2007). The complaint alleged violations of section 337 in the importation into the United States, the sale for importation, or the sale within the United States after importation of certain global positioning system (“GPS”) devices and products containing the same by reason of infringement of various claims of U.S. Patent Nos. 6,704,651 (“the `651 patent”); 6,651,000 (“the `000 patent”); 6,606,346 (“the `346 patent”); 6,937,187 (“the `187 patent”); 6,417,801 (“the `801 patent”); and 7,158,080 (“the `080 patent”). The complaint in the underlying investigation named as respondents SiRF Technology, Inc. (“SiRF”), E-TEN Corp. (“E-TEN”), Pharos Science & Applications, Inc. (“Pharos”), MiTAC International Corporation (“MiTAC”), and Mio Technology Limited (“Mio”) (collectively, “Respondents”).

On January 15, 2009, the Commission found a violation of section 337 by Respondents by reason of infringement of all six asserted patents. The Commission issued a limited exclusion and cease-and-desist orders against SiRF, Pharos, and Mio. The remedial orders are directed to GPS devices and products containing the same that infringe or are covered by certain claims of the `346, `651, `000, `080, `187, and/or `801 patents. Respondents subsequently appealed the Commission's final determination to the United States Court of Appeals for Federal Circuit (“Federal Circuit”). In a precedential opinion issued April 12, 2010, the Federal Circuit affirmed the Commission's Final Determination in all respects.

On August 16, 2010, the Commission instituted modification proceedings under 19 CFR 210.76 based on a petition for modification filed by Respondents. At the same time, the Commission denied a petition for modification filed by Broadcom. The modification proceedings are currently ongoing.

On October 7, 2010, Broadcom filed a complaint seeking institution of a formal enforcement proceeding to enforce the limited exclusion order and cease-and-desist orders against Respondents under Commission rule 210.75(b), 19 CFR 210.75(b). The enforcement complaint named SiRF, MiTAC, Mio, Pharos, E-TEN, MiTAC Digitial Corporation (“MiTAC Digital”), and CSR plc (“CSR”) as proposed enforcement respondents. Shortly after the enforcement complaint was filed, Broadcom withdrew its allegations with respect to E-TEN.

On October 22, 2010, the proposed enforcement respondents filed a motion with the Commission requesting sanctions against Broadcom. The motion alleges, among other things, that Broadcom's enforcement complaint does not comply with Commission rule 210.4(c), 19 CFR 210.4(c), regarding representations made to the Commission. On November 3, 2010, Broadcom opposed the motion. On November 9, 2010, the proposed enforcement respondents filed a motion for leave to reply in support of their motion for sanctions. The Commission has denied the motion for sanctions and the motion for leave.

Having examined the complaint seeking a formal enforcement proceeding, and having found that the complaint complies with the requirements for institution of a formal enforcement proceeding contained in Commission rule 210.75, 19 CFR 210.75, the Commission has determined to institute a formal enforcement proceeding to determine whether the respondents are in violation of the Commission's limited exclusion order and cease-and-desist orders issued in the investigation, and what, if any, enforcement measures are appropriate.

The following entities are named as parties to the formal enforcement proceeding: (1) Complainant Broadcom, (2) respondents SiRF, MiTAC, MiTAC Digital, Mio, Pharos, and CSR; and (3) a Commission investigative attorney to be designated by the Director, Office of Unfair Import Investigations.

The authority for the Commission's determination is contained in section 337 of the Tariff Act of 1930, as amended (19 U.S.C. 1337), and in section 210.75 of the Commission's Rules of Practice and Procedure (19 CFR 210.75).

By order of the Commission.
Issued: December 1, 2010.
Marilyn R. Abbott,
Secretary to the Commission.

[FR Doc. 2010-30617 Filed 12-6-10; 8:45 am]

BILLING CODE 7020-02-P